ENVIRONMENTAL PROTECTION AGENCY

40 CFR Part 52

[GA-043-1-9905b; and GA-045-1-9906b; FRL-6528-8 ]

Approval and Promulgation of Implementation Plans; Georgia: Approval of Revision to Enhanced Inspection and Maintenance Portion

AGENCY: Environmental Protection Agency (EPA).

ACTION: Proposed rule.

SUMMARY: The EPA proposes to approve the State Implementation Plan (SIP) revisions submitted, in two separate packages, by the State of Georgia in November and December of 1998. Both submittals request revisions to the enhanced Inspection and Maintenance (I/M) program, in accordance with the requirements of Section 110 of the Clean Air Act as amended in 1990 (CAA) and section 348 of the National Highway Systems Designation Act (NHSDA). In total, these submittals request revisions to modify the following sections: “Emission Inspection Procedures,” “Inspection Station Requirements,” “Certificate of Emissions Inspection,” “Definitions,” “Waivers,” “Inspection Fees,” and the “Accelerated Simulated Mode (ASM) Start-up Standards” found in Appendix H of the Enhanced I/M Test Equipment, Procedures, and Specifications—Phase II. In the Final Rules Section of this Federal Register, the EPA is approving the State's SIP revisions as a direct final rule without prior proposal because the Agency views these as noncontroversial submittals and anticipates no adverse comments. A detailed rationale for the approval is set forth in the direct final rule. If no adverse comments are received in response to this action, no further activity is contemplated. If EPA receives adverse comments, the direct final rule will be withdrawn and all public comments received will be addressed in a subsequent final rule based on this proposed rule. The EPA will not institute a second comment period on this document. Any parties interested in commenting on this document should do so at this time.

DATES: Written comments must be received on or before February 25, 2000.

ADDRESSES: All comments should be addressed to: Dale Aspy (November 1998 submittal) or Lynorae Benjamin (December 1998 submittal) at the EPA, Region 4 Air Planning Branch, 61 Forsyth Street, SW, Atlanta, Georgia 30303.

Copies of the state submittals are available at the following addresses for inspection during normal business hours: Air and Radiation Docket and Information Center, U.S. Environmental Protection Agency, 401 M Street, SW, Washington, DC 20460.

Environmental Protection Agency, Region 4, Air Planning Branch, 61 Forsyth Street, SW, Atlanta, Georgia 30303-8960. Dale Aspy, 404/562-9041; Lynorae Benjamin, 404/562-9040.

Georgia Department of Natural Resources, Environmental Protection Division, Air Protection Branch, 4244 International Parkway, Suite 120, Atlanta, Georgia 30354. 404/363-7000.

FOR FURTHER INFORMATION CONTACT: Dale Aspy at 404/562-9041 or Lynorae Benjamin at 404/562-9040.

SUPPLEMENTARY INFORMATION: For additional information see the direct final rule which is published in the Rules section of this Federal Register.

Dated: January 5, 2000.
A. Stanley Meiburg,
Acting Regional Administrator, Region 4.

[FR Doc. 00-1835 Filed 1-25-00; 8:45 am]

BILLING CODE 6560-50-P